ENVIRONMENTAL PROTECTION AGENCY

[EPA-HQ-OPP-2010-0248; FRL-8820-5]

Notice of Receipt of Requests for Amendments To Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective November 1, 2010, unless the Agency receives a written withdrawal request on or before November 1, 2010. The Agency will consider a withdrawal request postmarked no later than November 1, 2010.

Users of these products who desire continued use on crops or sites being deleted should contact the applicable registrant on or before November 1, 2010.

ADDRESSES: Submit your withdrawal request, identified by docket identification (ID) number EPA-HQ-OPP-2010-0248, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

FOR FURTHER INFORMATION CONTACT: Chris Green, Information Technology and Resources Management Division, Office of Pesticide Programs, Environmental Protection Agency, 1200 Pennsylvania Ave., NW., Washington, DC 20460-0001; telephone number: (703) (347)-0367; e-mail address: green.christopher@epa.gov.

SUPPLEMENTARY INFORMATION:

I. General Information

A. Does this Action Apply to Me?

This action is directed to the public in general. Although, this action may be of particular interest to persons who produce or use pesticides, the Agency has not attempted to describe all the specific entities that may be affected by this action. If you have any questions regarding the information in this notice, consult the person listed under FOR FURTHER INFORMATION CONTACT.

B. How Can I Get Copies of This Document and Other Related Information?

EPA has established a docket for this action under docket ID number EPA-HQ-OPP-2010-0248. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action Is the Agency Taking?

This notice announces receipt by the Agency of applications from registrants to delete uses in certain pesticide registrations. These registrations are listed in Table 1 of this unit by registration number, product name, active ingredient, and specific uses deleted:

Table 1.—Requests for Amendments to Delete Uses in Certain Pesticide Registrations
EPA registration No. | Product name | Active ingredient | Delete from label
100-1070 | Fusilade DX Herbicide | Fluazifop-p-butyl | For Endive
42519-27 | Tegrol Technical Fungicide | Tebuconazole | Use as a seed treatment on wheat and barley
66330-47 | TM-442 | Chloropicrin | Uses for Enclosed Space Fumigation
69361-14 | Triclopyr Technical | Triclopyr | Use on rice

Users of these products who desire continued use on crops or sites being deleted should contact the applicable registrant before November 1, 2010 to discuss withdrawal of the application for amendment. This 180-day period will also permit interested members of the public to intercede with registrants prior to the Agency's approval of the deletion.

Table 2 of this unit includes the names and addresses of record for all registrants of the products listed in Table 1 of this unit, in sequence by EPA company number.

Table 2.—Registrants Requesting Amendments to Delete Uses in Certain Pesticide Registrations
EPA company No. | Company name and address
100 | Syngenta Crop Protection, Inc. P.O. Box 18300 Greensboro, NC 27419-8300
42519 | Luxembourg-Pamol, Inc. 5100 Poplar Avenue Suite 2700, PMB 111 Memphis, TN 38137
66330 | Arysta LifeScience North America, LLC 15401 Weston Parkway, Suite 150 Cary, NC 27513
69361 | Repar Corporation 1050 Connecticut Ave. NW Suite 1000 Washington, DC 20036

III. What Is the Agency's Authority for Taking This Action?

Section 6(f)(1) of FIFRA provides that a registrant of a pesticide product may at any time request that any of its pesticide registrations be amended to delete one or more uses. FIFRA further provides that, before acting on the request, EPA must publish a notice of receipt of any such request in the Federal Register. Thereafter, the Administrator may approve such a request.

IV. Procedures for Withdrawal of Request

Registrants who choose to withdraw a request for use deletion must submit the withdrawal in writing to Christopher Green using the methods in ADDRESSES. The Agency will consider written withdrawal requests postmarked no later than November 1, 2010.

V. Provisions for Disposition of Existing Stocks

The Agency has authorized the registrants to sell or distribute product under the previously approved labeling for a period of 18 months after approval of the revision, unless other restrictions have been imposed, as in special review actions.

List of Subjects

Environmental protection, Pesticides and pests.

Dated: April 15, 2010.
Chandler Sirmons,
Acting Director, Information Technology and Resources Management Division, Office of Pesticide Programs.

[FR Doc. 2010-10228 Filed 5-4-10; 8:45 am]

BILLING CODE 6560-50-S